JUDICIAL CONFERENCE OF THE UNITED STATES

Hearing of the Judicial Conference Advisory Committee on Rules of Bankruptcy Procedure

AGENCY: Judicial Conference of the United States, Advisory Committee on Rules of Bankruptcy Procedure.

ACTION: Notice of cancellation of open hearing.

SUMMARY: The public hearing on proposed amendments to the Federal Rules of Bankruptcy Procedure, scheduled for January 22, in Washington, DC, has been canceled. [Original notice of hearing appeared in the Federal Register of October 2, 2006.]

FOR FURTHER INFORMATION CONTACT: John K. Rabiej, Chief, Rules Committee Support Office, Administrative Office of the United States Courts, Washington, DC 20544, telephone (202) 502-1820.

Dated: December 22, 2006.
John K. Rabiej,
Chief, Rules Committee Support Office.

[FR Doc. 07-6 Filed 1-5-07; 8:45 am]

BILLING CODE 2210-55-M